DEPARTMENT OF DEFENSE

Department of the Air Force

Air University Board of Visitors Meeting

ACTION: Notice of meeting of the Air University Board of Visitors.

SUMMARY: Under the provisions of the Federal Advisory Committee Act of 1972 (5 U.S.C., Appendix, as amended), the Government in the Sunshine Act of 1976 (5 U.S.C. 552b, as amended), and 41 CFR 102-3.150, the Department of Defense announces that the Air University Board of Visitors' Air Force Institute of Technology (AFIT) Subcommittee meeting will take place on Monday, 25 April 2016, from approximately 8:00 a.m. to approximately 4:00 p.m. and Tuesday, 26 April, 2016, from approximately 8:00 a.m. to approximately 4:00 p.m. The meeting will be held at AFIT, on Wright-Patterson, Air Force Base, in Dayton, Ohio. The purpose of this meeting is to provide independent advice and recommendations on matters pertaining to the educational policies, programs, and direction of the Air Force Institute of Technology. Specific to this agenda is AFIT laboratory visits.

In addition, the Air University Board of Visitors' spring meeting will take place on Tuesday, April 26th, 2016, from approximately 8:00 a.m. to approximately 4:00 p.m. and Wednesday, April 27th, 2016, from approximately 7:30 a.m. to approximately 3:00 p.m. The meeting will be held at the Air Force Institute of Technology, on Wright-Patterson, Air Force Base, in Dayton, Ohio. The purpose of this meeting is to provide independent advice and recommendations on matters pertaining to the educational, doctrinal, and research policies and activities of Air University. Specific to this agenda includes topics relating to AU transformation and will include laboratory tours and an out brief from the AFIT Subcommittee.

Pursuant to 5 U.S.C. 552b, as amended, and 41 CFR 102-3.155 all sessions of the Air University Board of Visitors' meetings' will be open to the public. Any member of the public wishing to provide input to the Air University Board of Visitors' should submit a written statement in accordance with 41 CFR 102-3.140(c) and section 10(a)(3) of the Federal Advisory Committee Act and the procedures described in this paragraph. Written statements can be submitted to the Designated Federal Officer at the address detailed below at any time.

Statements being submitted in response to the agenda mentioned in this notice must be received by the Designated Federal Officer at the address listed below at least ten calendar days prior to the meeting which is the subject of this notice. Written statements received after this date may not be provided to or considered by the Air University Board of Visitors until its next meeting.

The Designated Federal Officer will review all timely submissions with the Air University Board of Visitors' Board Chairperson and ensure they are provided to members of the Board before the meeting that is the subject of this notice. Additionally, public attendance at either the AFIT Subcommittee or AU/BOV meeting shall be accommodated on a first-come, first-served basis up to the reasonable and safe capacity of the meeting room. Any member of the public wishing to attend this meeting should contact the Designated Federal Officer listed below at least ten calendar days prior to the meeting for information on base entry procedures.

FOR FURTHER INFORMATION: Ms. Lisa Arnold, Designated Federal Officer, Air University Headquarters, 55 LeMay Plaza South, Maxwell Air Force Base, Alabama 36112-6335, telephone (334) 953-2989.

Henry Williams,
Acting Air Force Federal Register Liaison Officer.

[FR Doc. 2016-03598 Filed 2-19-16; 8:45 am]

BILLING CODE 5001-10-P